DEPARTMENT OF VETERANS AFFAIRS

Privacy Act of 1974, Deletion of System of Records

AGENCY: Department of Veterans Affairs.

ACTION: Notice.

Notice is hereby given that the Board of Veterans' Appeals (BVA) is deleting a system of records entitled, “Representatives' Fee Agreement Records System,” (81VA01), first published at 56 FR 18874 (April 24, 1991) and amended at 57 FR 8792 (March 12, 1992), 63 FR 37941 (July 14, 1998), and 66 FR 47725 (Sept. 13, 2001). The records in this system were merged into the system of records entitled, “Veterans Appellate Records System—VA” (44VA01), rendering 81VA01 superfluous. Notice of that merger was published at 70 FR 6079 (February 4, 2005).

A “Report of Intent to Publish a Federal Register Notice of Deletion of a System of Records” and an advance copy of the system notice have been provided to the appropriate Congressional committees and to the Director, Office of Management and Budget (OMB) as required by 5 U.S.C. 552a(r) and guidelines issued by OMB (65 FR 77677), December 12, 2000.

This system deletion is effective March 31, 2006.

Approved: March 17, 2006.
Gordon H. Mansfield,
Deputy Secretary of Veterans Affairs.

[FR Doc. E6-4718 Filed 3-30-06; 8:45 am]

BILLING CODE 8320-01-P